DEPARTMENT OF TRANSPORTATION

Coast Guard

33 CFR Part 117

[CGD08-01-034]

Drawbridge Operating Regulation; Lake Pontchartrain, LA

AGENCY: Coast Guard, DOT.

ACTION: Notice of temporary deviation from regulations.

SUMMARY: The Commander, Eighth Coast Guard District has issued a temporary deviation from the regulation governing the operation of the bascule spans of the Greater New Orleans Expressway Commission Causeway across Lake Pontchartrain between Metairie, Jefferson Parish and Mandeville, St. Tammany Parish, Louisiana. This deviation allows the draws of the bridges to remain closed to navigation from 6 a.m. on Monday, October 15, 2001 until 6 a.m. on Wednesday, October 17, 2001. Presently, the draws are required to open on signal if at least three hours notice is given. This temporary deviation is requested to allow for the connection of new submarine cables to operate the draw spans of the bridges.

DATES: This deviation is effective from 6 a.m. on Monday, October 15, 2001 until 6 a.m. on Wednesday, October 17, 2001.

ADDRESSES: Unless otherwise indicated, documents referred to in this notice are available for inspection or copying at the office of the Eighth Coast Guard District, Bridge Administration Branch, Commander (ob), 501 Magazine Street, New Orleans, Louisiana, 70130-3396. The Bridge Administration Branch maintains the public docket for this temporary deviation.

FOR FURTHER INFORMATION CONTACT: David Frank, Bridge Administration Branch, telephone (504) 589-2965.

SUPPLEMENTARY INFORMATION: During the closure period, the bridges will not be able to open for vessels to transit through the bascule spans of the bridge. The bridges have a vertical clearance of 42 feet above mean high water in the closed-to-navigation position. Navigation on the waterway consists of small tugs with tows, fishing vessels, sailing vessels, and other recreational craft. In case of an emergency, the bridge owner will be able to hand crank the draws of the bridges to the open to navigation position. As an alternate route, the south channel fixed spans of the dual bridges provides a vertical clearance of 50 feet above mean high water.

The Greater New Orleans Expressway Commission requested a temporary deviation from the normal operation of the drawbridge in order to allow for the connection of new submarine cables to operate the draw spans of the bridges.

This deviation allows the draws of the bridges of the Greater New Orleans Expressway Commission Causeway across Lake Pontchartrain to remain closed to navigation from 6 a.m. on Monday, October 15, 2001 until 6 a.m. on Wednesday, October 17, 2001.

Dated: September 10, 2001.
J.R. Whitehead,
Captain, U.S. Coast Guard Commander, 8th Coast Guard Dist. Acting.

[FR Doc. 01-23824 Filed 9-24-01; 8:45 am]

BILLING CODE 4910-15-U